DEPARTMENT OF HEALTH AND HUMAN SERVICES

Food and Drug Administration

[Docket No. 2010-N-0001]

2010 Scientific Meeting of the National Antimicrobial Resistance Monitoring System; Public Meeting; Request for Comments

AGENCY: Food and Drug Administration, HHS.

ACTION: Notice of public meeting; request for comments.

The Food and Drug Administration (FDA) is announcing a public meeting entitled “2010 Scientific Meeting of the National Antimicrobial Resistance Monitoring System.” The topic to be discussed is the results from the National Antimicrobial Resistance Monitoring System (NARMS) and related antimicrobial resistance monitoring and research, including activities in other national programs.

Date and Time: The public meeting will be held on July 15 and 16, 2010, from 8 a.m. to 5 p.m.

Location: The public meeting will be held at Hyatt Regency-Atlanta hotel, 265 Peachtree St. NE, Atlanta, GA 30303, 404-577-1234, FAX: 404-588-4137.

Contact Person: Joanne Kla, Center for Veterinary Medicine (HFV-12), Food and Drug Administration, 7519 Standish Pl., Rockville, MD 20857, 240-276-9129, e-mail: NARMSinternationalMeeting@fda.hhs.gov, FAX: 240-276-9115.

Registration and Requests for Oral Presentations: Send registration information (including name, title, firm name, address, telephone and fax number, and e-mail address), and written material and requests to make oral presentations, to the contact person (see Contact Person) on or before July 7, 2010. There is no registration fee for the public meeting. Early registration is recommended because seating is limited. Registration on the day of the public meeting will be provided on a space available basis beginning at 8 a.m. on the day of the meeting.

If you need special accommodations due to a disability, please contact the Hyatt Regency-Atlanta hotel, (see Location) at least 7 days in advance.

Interested persons may present data, information, or views, orally or in writing, on the topic of the discussion of the meeting. Written submissions may be made to the contact person on or before July 1, 2010, for distribution at the meeting. Oral presentations from the public during the open public comment period will be scheduled between approximately 4 p.m. and 5 p.m. on July 16, 2010. Those desiring to make oral presentations should notify the contact person by July 1, 2010, and submit a brief statement of the general nature of information they wish to present and an indication of the approximate time requested to make their presentation. Time allotted for each presentation may be limited. The contact person will inform each speaker of their schedule prior to the meeting.

Comments: Regardless of attendance at the public meeting, interested persons may submit written comments to the Division of Dockets Management (HFA-305), Food and Drug Administration, 5630 Fishers Lane, rm. 1061, Rockville, MD 20852. Submit electronic comments to http://www.regulations.gov. Submit a single copy of electronic comments or two paper copies of any mailed comments, except that individuals may submit one paper copy. Comments are to be identified with the docket number found in brackets in the heading of this document. Received comments may be seen in the Division of Dockets Management between 9 a.m. and 4 p.m., Monday through Friday. The docket will remain open for written or electronic comments for 30 days following the meeting.

Agenda: The meeting will address goals and challenges of monitoring antimicrobial susceptibility in foodborne bacteria, and present research on the microbiology and epidemiology of resistance. The agenda for the public meeting will be made available on the agency's Web site at http://www.fda.gov/AnimalVeterinary/SafetyHealth/AntimicrobialResistance/NationalAntimicrobialResistanceMonitoringSystem/ucm059135.htm.

Transcripts: FDA will prepare a meeting transcript and make it available on the agency's Web site (see Agenda) after the meeting. FDA anticipates that transcripts will be available approximately 30 business days after the meeting. The transcript will be available for public examination at the Division of Dockets Management (HFA-305), 5630 Fishers Lane, rm. 1061, Rockville, MD 20852, between 9 a.m. and 4 p.m., Monday through Friday. A transcript will also be available in either hardcopy or on CD-ROM, after submission of a Freedom of Information request. Written requests are to be sent to Division of Freedom of Information (HFI-35), Office of Management Programs, Food and Drug Administration, 5600 Fishers Lane, rm. 6-30, Rockville, MD 20857.

Dated: March 30, 2010.
Leslie Kux,
Acting Assistant Commissioner for Policy.

[FR Doc. 2010-7496 Filed 4-1-10; 8:45 am]

BILLING CODE 4160-01-S